ENVIRONMENTAL PROTECTION AGENCY

40 CFR Part 180

[EPA-HQ-OPP-2010-0490; FRL-8869-6]

Aluminum tris (O-ethylphosphonate), Butylate, Chlorethoxyfos, Clethodim, et al.; Tolerance Actions

AGENCY: Environmental Protection Agency (EPA).

ACTION: Final rule.

SUMMARY: In accordance with current Agency practice to describe more clearly the measurement and scope or coverage of the tolerances, EPA is making minor revisions to tolerance expressions for a number of pesticide active ingredients, including the insecticides chlorethoxyfos, clofentezine, cyromazine, etofenprox, fenbutatin-oxide, fosthiazate, propetamphos, and tebufenozide; the fungicide aluminum tris (O-ethylphosphonate); the herbicides butylate, clethodim, clomazone, fenoxaprop-ethyl, flumetsulam, flumiclorac pentyl, fluridone, glufosinate ammonium, lactofen, propyzamide, quinclorac, and pyridate; and the fungicide/bactericide oxytetracycline. Also, EPA is revoking the tolerances for aluminum tris (O-ethylphosphonate) on pineapple fodder and forage because they are not considered to be significant livestock feed items, and revising specific tolerance nomenclatures for aluminum tris (O-ethylphosphonate), clethodim, flumetsulam, and fluridone. In addition, EPA is removing several expired tolerances for aluminum tris (O-ethylphosphonate), etofenprox, propyzamide, and tebufenozide.

DATES: This regulation is effective April 27, 2011. Objections and requests for hearings must be received on or before June 27, 2011, and must be filed in accordance with the instructions provided in 40 CFR part 178 (see also Unit I.C. of the SUPPLEMENTARY INFORMATION).

ADDRESSES: EPA has established a docket for this action under docket identification (ID) number EPA-HQ-OPP-2010-0490. All documents in the docket are listed in the docket index available at http://www.regulations.gov. Although listed in the index, some information is not publicly available, e.g., Confidential Business Information (CBI) or other information whose disclosure is restricted by statute. Certain other material, such as copyrighted material, is not placed on the Internet and will be publicly available only in hard copy form. Publicly available docket materials are available in the electronic docket at http://www.regulations.gov, or, if only available in hard copy, at the OPP Regulatory Public Docket in Rm. S-4400, One Potomac Yard (South Bldg.), 2777 S. Crystal Dr., Arlington, VA. The Docket Facility is open from 8:30 a.m. to 4 p.m., Monday through Friday, excluding legal holidays. The Docket Facility telephone number is (703) 305-5805.

FOR FURTHER INFORMATION CONTACT: Joseph Nevola, Pesticide Re-evaluation Division (7508P), Office of Pesticide Programs, Environmental Protection Agency, 1200 Pennsylvania Ave., NW., Washington, DC 20460-0001; telephone number: (703) 308-8037; e-mail address: nevola.joseph@epa.gov.

SUPPLEMENTARY INFORMATION:

I. General Information

A. Does this action apply to me?

You may be potentially affected by this action if you are an agricultural producer, food manufacturer, or pesticide manufacturer. Potentially affected entities may include, but are not limited to:

• Crop production (NAICS code 111).

• Animal production (NAICS code 112).

• Food manufacturing (NAICS code 311).

• Pesticide manufacturing (NAICS code 32532).

This listing is not intended to be exhaustive, but rather provides a guide for readers regarding entities likely to be affected by this action. Other types of entities not listed in this unit could also be affected. The North American Industrial Classification System (NAICS) codes have been provided to assist you and others in determining whether this action might apply to certain entities. If you have any questions regarding the applicability of this action to a particular entity, consult the person listed under FOR FURTHER INFORMATION CONTACT.

B. How can I get electronic access to other related information?

You may access a frequently updated electronic version of 40 CFR part 180 through the Government Printing Office's e-CFR site at http://www.gpoaccess.gov/ecfr.

C. How can I file an objection or hearing request?

Under FFDCA section 408(g), 21 U.S.C. 346a, any person may file an objection to any aspect of this regulation and may also request a hearing on those objections. You must file your objection or request a hearing on this regulation in accordance with the instructions provided in 40 CFR part 178. To ensure proper receipt by EPA, you must identify docket ID number EPA-HQ-OPP-2010-0490 in the subject line on the first page of your submission. All objections and requests for a hearing must be in writing, and must be received by the Hearing Clerk on or before June 27, 2011. Addresses for mail and hand delivery of objections and hearing requests are provided in 40 CFR 178.25(b).

In addition to filing an objection or hearing request with the Hearing Clerk as described in 40 CFR part 178, please submit a copy of the filing that does not contain any CBI for inclusion in the public docket. Information not marked confidential pursuant to 40 CFR part 2 may be disclosed publicly by EPA without prior notice. Submit a copy of your non-CBI objection or hearing request, identified by docket ID number EPA-HQ-OPP-2010-0490, by one of the following methods:

• Federal eRulemaking Portal: http://www.regulations.gov. Follow the on-line instructions for submitting comments.

• Mail: Office of Pesticide Programs (OPP) Regulatory Public Docket (7502P), Environmental Protection Agency, 1200 Pennsylvania Ave., NW., Washington, DC 20460-0001.

• Delivery: OPP Regulatory Public Docket (7502P), Environmental Protection Agency, Rm. S-4400, One Potomac Yard (South Bldg.), 2777 S. Crystal Dr., Arlington, VA. Deliveries are only accepted during the Docket Facility's normal hours of operation (8:30 a.m. to 4 p.m., Monday through Friday, excluding legal holidays). Special arrangements should be made for deliveries of boxed information. The Docket Facility telephone number is (703) 305-5805.

II. Background

A. What action is the agency taking?

In the Federal Register of July 28, 2010 (75 FR 44184) (FRL-8834-1), EPA issued a proposal to revise tolerance expressions for a number of pesticide active ingredients, including the insecticides chlorethoxyfos, clofentezine, cyromazine, etofenprox, fenbutatin-oxide, fosthiazate, propetamphos, and tebufenozide, the fungicides aluminum tris (O-ethylphosphonate) and fenarimol; the herbicides butylate, clethodim, clomazone, fenoxaprop-ethyl, flumetsulam, flumiclorac pentyl, fluridone, fomesafen, glufosinate ammonium, lactofen, propyzamide, quinclorac, and pyridate; and the fungicide/bactericide oxytetracycline. Also, EPA proposed to revoke the tolerances for aluminum tris (O-ethylphosphonate) on pineapple fodder and forage because they are not considered to be significant livestock feed items, and revise specific tolerance nomenclatures for aluminum tris (O-ethylphosphonate), clethodim, flumetsulam, and fluridone. In addition, EPA announced that the Agency would remove several expired tolerances for aluminum tris(O-ethylphosphonate), etofenprox, propyzamide, and tebufenozide. Also, the proposal of July 28, 2010 provided a 60-day comment period which invited public comment for consideration and for support of tolerance retention under FFDCA standards.

Since the proposal of July 28, 2010 (75 FR 44184), which included proposals to revise the tolerance expressions for fenarimol and fomesafen among other actions concerning multiple active ingredients, the introductory texts containing the tolerance expressions for fenarimol in 40 CFR 180.421(a) and fomesafen in 40 CFR 180.433(a) wererevised to describe measurement and coverage of the tolerances in the Federal Register of September 17, 2010 (75 FR 56892) (FRL-8844-6), and March 9, 2011 (76 FR 12877) (FRL-8858-5), respectively. Consequently, because no further actions on fenarimol and fomesafen are needed, none is taken herein.

In this final rule, EPA is revising tolerance expressions for aluminum tris (O-ethylphosphonate), butylate, chlorethoxyfos, clethodim, clofentezine, clomazone, cyromazine, etofenprox, fenbutatin-oxide, fenoxaprop-ethyl, flumetsulam, flumiclorac pentyl, fluridone, fosthiazate, glufosinate ammonium, lactofen, oxytetracycline, propetamphos, propyzamide, pyridate, quinclorac, and tebufenozide. The revisions are in accordance with current Agency practice to describe more clearly the measurement and scope or coverage of tolerances, including applicable metabolites and degradates. The revisions do not substantively change the tolerance or, in any way, modify the permissible level of residues permitted by the tolerance. Also, EPA is revoking the tolerances for aluminum tris (O-ethylphosphonate) on pineapple fodder and forage because they are not considered to be significant livestock feed items, and therefore the tolerances are no longer needed. In addition, EPA is revising specific tolerance nomenclatures for aluminum tris (O-ethylphosphonate), clethodim, flumetsulam, and fluridone. Also, EPA is removing several expired tolerances for aluminum tris (O-ethylphosphonate), etofenprox, propyzamide, and tebufenozide.

In response to the proposal published in the Federal Register of July 28, 2010 (75 FR 44184), EPA received no comments during the 60-day public comment period. Therefore, with the exception of fenarimol, EPA is finalizing the amendments proposed concerning these pesticide active ingredients in the Federal Register of July 28, 2010 (75 FR 44184). For a detailed discussion of the Agency's rationale for the revocation of tolerances, revision of tolerance expressions and tolerance nomenclatures, refer to the proposed rule of July 28, 2010 (75 FR 44184).

In addition, the Agency is making the following revisions in this final rule relating to chemical nomenclature to more accurately describe the substances at issue. None of the revisions changes which chemicals are subject to the tolerance expression in which they are contained. Also, because the Agency published a final rule in the Federal Register on December 8, 2010 (75 FR 76284) (FRL-8853-8) that resulted in 40 CFR 180.1 being changed so that a cross-reference, which deals with regional registrations in paragraph (c), was redesignated from § 180.1(m) to § 180.1(l), the Agency is making the following revisions in this final rule relating to cross-referencing § 180.1(l) in multiple sections for paragraph (c). Although these changes were not included in the proposed rule, under section 553(b)(3)(B) of the Administrative Procedure Act EPA finds there is good cause to include these changes in the final rule without further notice and comment because the changes have no practical impact on the use of or exposure to the chemicals.

1. Clomazone. The Agency inadvertently omitted two brackets in the chemical nomenclature for clomazone. Consequently, EPA is revising the nomenclature for clomazone in 40 CFR 180.425(a) from “2-(2-chlorophenyl)methyl-4,4-dimethyl-3-isoxazolidinone” to “2-[(2-chlorophenyl)methyl]-4,4-dimethyl-3-isoxazolidinone.”

2. Glufosinate ammonium. The Agency did not propose to revise the chemical nomenclature for the metabolites of glufosinate to be more consistent with the nomenclature for the parent compound. Consequently, EPA is revising the nomenclature for the metabolites of glufosinate to be more consistent with the parent compound in 40 CFR 180.473(a) from “2-acetamido-4-methylphosphinicobutanoic acid” to “2-(acetylamino)-4-(hydroxymethylphosphinyl)butanoic acid” and “3-methylphosphinicopropionic acid” to “3-(hydroxymethylphosphinyl)propionic acid;” and in 40 CFR 180.473(d) from “3-methylphosphinicopropionic acid” to “3-(hydroxymethylphosphinyl)propionic acid.” This change is being made so that the nomenclatures of the parent ingredient and its metabolites will be consistent.

3. Aluminum tris (O-ethylphosphonate), fenbutatin-oxide, lactofen, and propyzamide. The Agency did not propose to cross-reference 40 CFR 180.1(l) in paragraph (c) for aluminum tris (O-ethylphosphonate), fenbutatin-oxide, lactofen, and propyzamide. Consequently, EPA is revising 40 CFR 180.415(c), 180.362(c), 180.432(c), and 180.317(c), by cross-referencing 40 CFR 180.1(l), to be more consistent with the final rule of December 8, 2010 (75 FR 76284) (FRL-8853-8).

B. What is the Agency's authority for taking this action?

EPA may issue a regulation establishing, modifying, or revoking tolerances under FFDCA section 408(e).

C. When do these actions become effective?

These actions, revisions of specific tolerance expressions, revocation of the tolerances for aluminum tris (O-ethylphosphonate) on pineapple fodder and forage, and revision of specific commodity terminologies (tolerance nomenclatures) become effective on the date of publication of this final rule in the Federal Register.

Any commodities listed in the regulatory text of this document that are treated with the pesticides subject to this final rule, and that are in the channels of trade following the tolerance revocations, shall be subject to FFDCA section 408(1)(5), as established by FQPA. Under this unit, any residues of these pesticides in or on such food shall not render the food adulterated so long as it is shown to the satisfaction of the Food and Drug Administration that:

1. The residue is present as the result of an application or use of the pesticide at a time and in a manner that was lawful under FIFRA.

2. The residue does not exceed the level that was authorized at the time of the application or use to be present on the food under a tolerance or exemption from tolerance. Evidence to show that food was lawfully treated may include records that verify the dates that the pesticide was applied to such food.

III. International Residue Limits

In making its tolerance decisions, EPA seeks to harmonize U.S. tolerances with international standards whenever possible, consistent with U.S. food safety standards and agricultural practices. EPA considers the international maximum residue limits (MRLs) established by the Codex Alimentarius Commission (Codex), as required by FFDCA section 408(b)(4). The Codex Alimentarius is a joint U.N. Food and Agriculture Organization/World Health Organization food standards program, and it is recognized as an international food safety standards-setting organization in trade agreements to which the United States is a party. EPA may establish a tolerance that is different from a Codex MRL; however, FFDCA section 408(b)(4) requires that EPA explain the reasons for departing from the Codex level.

The Codex has not established a MRL for aluminum tris (O-ethylphosphonate), butylate, chlorethoxyfos, clomazone, fenoxaprop-ethyl, flumetsulam, flumiclorac pentyl, fluridone, fosthiazate, lactofen, oxytetracycline (pesticide use), propetamphos, propyzamide, pyridate, and quinclorac, or MRL on rice grain for etofenprox.

The Codex has established MRLs for clethodim in or on various commodities, some of which are different than the tolerances established for clethodim in the United States. However, the changes made herein in the U.S. tolerance expression for clethodim harmonizes U.S. tolerances with certain Codex MRLs for clethodim. For a detailed discussion, refer to the proposed rule of July 28, 2010 (75 FR 44184).

The Codex has established MRLs for clofentezine, cyromazine, fenbutatin-oxide, glufosinate ammonium, and tebufenozide in or on various commodities. Some MRLs are different than the tolerances established for clofentezine, cyromazine, fenbutatin-oxide, glufosinate ammonium, and tebufenozide in the United States. For a detailed discussion, refer to the proposed rule of July 28, 2010 (75 FR 44184).

IV. Statutory and Executive Order Reviews

In this final rule, EPA revises tolerance expressions and revokes specific tolerances established under FFDCA section 408. The Office of Management and Budget (OMB) has exempted these types of actions (i.e., tolerance actions for which extraordinary circumstances do not exist) from review under Executive Order 12866, entitled Regulatory Planning and Review (58 FR 51735, October 4, 1993). Because this rule has been exempted from review under Executive Order 12866 due to its lack of significance, this rule is not subject to Executive Order 13211, entitled Actions Concerning Regulations That Significantly Affect Energy Supply, Distribution, or Use (66 FR 28355, May 22, 2001). This final rule does not contain any information collections subject to OMB approval under the Paperwork Reduction Act (PRA), 44 U.S.C. 3501 et seq., or impose any enforceable duty or contain any unfunded mandate as described under Title II of the Unfunded Mandates Reform Act of 1995 (UMRA) (Pub. L. 104-4). Nor does it require any special considerations as required by Executive Order 12898, entitled Federal Actions to Address Environmental Justice in Minority Populations and Low-Income Populations (59 FR 7629, February 16, 1994); or OMB review or any other Agency action under Executive Order 13045, entitled Protection of Children from Environmental Health Risks and Safety Risks (62 FR 19885, April 23, 1997). This action does not involve any technical standards that would require Agency consideration of voluntary consensus standards pursuant to section 12(d) of the National Technology Transfer and Advancement Act of 1995 (NTTAA), Public Law 104-13, section 12(d) (15 U.S.C. 272 note). Pursuant to the Regulatory Flexibility Act (RFA) (5 U.S.C. 601 et seq.), the Agency previously assessed whether establishment of tolerances, exemptions from tolerances, raising of tolerance levels, expansion of exemptions, or revocations might significantly impact a substantial number of small entities and concluded that, as a general matter, these actions do not impose a significant economic impact on a substantial number of small entities. These analyses for tolerance establishments and modifications, and for tolerance revocations were published on May 4, 1981 (46 FR 24950) and on December 17, 1997 (62 FR 66020) (FRL-5753-1), respectively, and were provided to the Chief Counsel for Advocacy of the Small Business Administration. Taking into account this analysis, and available information concerning the pesticides listed in this final rule, the Agency hereby certifies that this final rule will not have a significant economic impact on a substantial number of small entities. In a memorandum dated May 25, 2001, EPA determined that eight conditions must all be satisfied in order for an import tolerance or tolerance exemption revocation to adversely affect a significant number of small entity importers, and that there is a negligible joint probability of all eight conditions holding simultaneously with respect to any particular revocation. (This Agency document is available in the docket of the proposed rule). Furthermore, for the pesticides named in this final rule, the Agency knows of no extraordinary circumstances that exist as to the present revocations that would change EPA's previous analysis. In addition, the Agency has determined that this action will not have a substantial direct effect on States, on the relationship between the national government and the States, or on the distribution of power and responsibilities among the various levels of government, as specified in Executive Order 13132, entitled Federalism (64 FR 43255, August 10, 1999). Executive Order 13132 requires EPA to develop an accountable process to ensure “meaningful and timely input by State and local officials in the development of regulatory policies that have federalism implications.” “Policies that have federalism implications” is defined in the Executive order to include regulations that have “substantial direct effects on the States, on the relationship between the national government and the States, or on the distribution of power and responsibilities among the various levels of government.” This final rule directly regulates growers, food processors, food handlers, and food retailers, not States. This action does not alter the relationships or distribution of power and responsibilities established by Congress in the preemption provisions of section 408(n)(4) of FFDCA. For these same reasons, the Agency has determined that this rule does not have any “tribal implications” as described in Executive Order 13175, entitled Consultation and Coordination with Indian Tribal Governments (65 FR 67249, November 9, 2000). Executive Order 13175, requires EPA to develop an accountable process to ensure “meaningful and timely input by tribal officials in the development of regulatory policies that have tribal implications.” “Policies that have tribal implications” is defined in the Executive order to include regulations that have “substantial direct effects on one or more Indian tribes, on the relationship between the Federal Government and the Indian tribes, or on the distribution of power and responsibilities between the Federal Government and Indian tribes.” This rule will not have substantial direct effects on tribal governments, on the relationship between the Federal Government and Indian Tribes, or on the distribution of power and responsibilities between the Federal Government and Indian Tribes, as specified in Executive Order 13175. Thus, Executive Order 13175 does not apply to this rule.

V. Congressional Review Act

The Congressional Review Act, 5 U.S.C. 801 et seq., generally provides that before a rule may take effect, the agency promulgating the rule must submit a rule report to each House of the Congress and to the Comptroller General of the United States. EPA will submit a report containing this rule and other required information to the U.S. Senate, the U.S. House of Representatives, and the Comptroller General of the United States prior to publication of this final rule in the Federal Register. This final rule is not a “major rule” as defined by 5 U.S.C. 804(2).

List of Subjects in 40 CFR Part 180

Environmental protection, Administrative practice and procedure, Agricultural commodities, Pesticides and pests, Reporting and recordkeeping requirements.

Dated: April 15, 2011.
Steven Bradbury,
Director, Office of Pesticide Programs.

Therefore, 40 CFR chapter I is amended as follows:

PART 180—[AMENDED]

1. The authority citation for part 180 continues to read as follows:

Authority: 21 U.S.C. 321(q), 346a and 371.

2. In § 180.232 revise the introductory text in paragraph (a) to read as follows:

§ 180.232 Butylate; tolerances for residues.

(a) General. Tolerances are established for residues of the herbicide butylate, including its metabolites and degradates, in or on the commodities in the table in this paragraph. Compliance with the tolerance levels specified in this paragraph is to be determined by measuring only butylate, S-ethyl bis (2-methylpropyl) carbamothioate, in or on the commodity.

* * * * *

3. Section 180.317 is amended as follows:

i. Revise the introductory text in paragraph (a);

ii. Remove and reserve paragraph (b);

iii. Revise the introductory text in paragraph (c);

iv. Revise the introductory text in paragraph (d).

The revised text reads as follows:

§ 180.317 Propyzamide; tolerances for residues.

(a) General. Tolerances are established for residues of the herbicide propyzamide, including its metabolites and degradates, in or on the commodities in the table in this paragraph. Compliance with the tolerance levels specified in this paragraph is to be determined by measuring only those propyzamide residues convertible to methyl 3,5-dichlorobenzoate, expressed as the stoichiometric equivalent of propyzamide, 3,5-dichloro-N-(1,1-dimethyl-2-propynyl)benzamide, in or on the commodity.

* * * * *

(b) Section 18 emergency exemptions. [Reserved]

(c) Tolerances with regional registrations. Tolerances with regional registration, as defined in § 180.1(l), are established for residues of the herbicide propyzamide, including its metabolites and degradates, in or on the commodities in the table in this paragraph. Compliance with the tolerance levels specified in this paragraph is to be determined by measuring only those propyzamide residues convertible to methyl 3,5-dichlorobenzoate, expressed as the stoichiometric equivalent of propyzamide, 3,5-dichloro-N-(1,1-dimethyl-2-propynyl)benzamide, in or on the commodity.

* * * * *

(d) Indirect or inadvertent residues. Tolerances are established for indirect or inadvertent residues of the herbicide propyzamide, including its metabolites and degradates, in or on the commodities in the table in this paragraph. Compliance with the tolerance levels specified in this paragraph is to be determined by measuring only those propyzamide residues convertible to methyl 3,5-dichlorobenzoate, expressed as the stoichiometric equivalent of propyzamide, 3,5-dichloro-N-(1,1-dimethyl-2-propynyl)benzamide, in or on the commodity.

* * * * *

4. Revise § 180.337 to read as follows:

§ 180.337 Oxytetracycline; tolerances for residues.

(a) General. Tolerances are established for residues of the fungicide/bactericide oxytetracycline, including its metabolites and degradates, in or on the commodities in the table in this paragraph. Compliance with the tolerance levels specified in this paragraph is to be determined by measuring only oxytetracycline, (4S,4aR,5S,5aR,6S,12aS)-4-(dimethylamino)-1,4,4a,5,5a,6,11,12a-octahydro-3,5,6,10,12,12a-hexahydroxy-6-methyl-1,11-dioxo-2-naphthacenecarboxamide, in or on the commodity.

Commodity | Parts per million
Apple | 0.35
Peach | 0.35
Pear | 0.35

(b) Section 18 emergency exemptions. [Reserved]

(c) Tolerances with regional registrations. [Reserved]

(d) Indirect or inadvertent residues. [Reserved]

5. Section 180.362 is amended as follows:

i. Revise the section heading;

ii. Revise the introductory text in paragraph (a)(1);

iii. Revise the introductory text in paragraph (a)(2);

iv. Revise the introductory text in paragraph (c).

The revised text reads as follows:

§ 180.362 Fenbutatin-oxide; tolerances for residues.

(a) * * * (1) Tolerances are established for residues of the miticide/acaricide fenbutatin-oxide, including its metabolites and degradates, in or on the plant commodities in the table in this paragraph. Compliance with the tolerance levels specified in this paragraph is to be determined by measuring only fenbutatin-oxide, hexakis (2-methyl-2-phenylpropyl) distannoxane, in or on the commodity.

* * * * *

(2) Tolerances are established for residues of the miticide/acaricide fenbutatin-oxide, including its metabolites and degradates, in or on the animal commodities in the table in this paragraph. Compliance with the tolerance levels specified in this paragraph is to be determined by measuring only the sum of fenbutatin-oxide, hexakis (2-methyl-2-phenylpropyl) distannoxane, and its organotin metabolites, dihydroxybis(2-methyl-2-phenylpropyl) stannane and 2-methyl-2-phenylpropylstannoic acid, calculated as the stoichiometric equivalent of fenbutatin-oxide, in or on the commodity.

* * * * *

(c) Tolerances with regional registrations. A tolerance with regional registration, as defined in § 180.1(l), is established for residues of the miticide/acaricide fenbutatin-oxide, including its metabolites and degradates, in or on the plant commodity in the table in this paragraph. Compliance with the tolerance level specified in this paragraph is to be determined by measuring only fenbutatin-oxide, hexakis (2-methyl-2-phenylpropyl) distannoxane, in or on the commodity.

* * * * *

6. Section 180.414 is amended as follows:

i. Revise the introductory text in paragraph (a)(1);

ii. Revise paragraph (a)(2);

iii. Revise the introductory text in paragraph (d).

The revised reads as follows:

§ 180.414 Cyromazine; tolerances for residues.

(a) * * * (1) Tolerances are established for residues of the insecticide cyromazine, including its metabolites and degradates, in or on the commodities in the table in this paragraph. Compliance with the tolerance levels specified in this paragraph is to be determined by measuring only cyromazine, N-cyclopropyl-1,3,5-triazine-2,4,6-triamine, in or on the commodity.

* * * * *

(2) A tolerance of 5.0 parts per million is established for residues of the insecticide cyromazine, including its metabolites and degradates, in or on poultry feed when used as a feed additive only in feed for chicken layer hens and chicken breeder hens at the rate of not more than 0.01 pound of cyromazine per ton of poultry feed for control of flies in manure of treated chicken layer hens and chicken breeder hens, provided the feeding of cyromazine-treated feed must stop at least 3 days (72 hours) before slaughter. If the feed is formulated by any person other than the end user, the formulator must inform the end user, in writing, of the 3-day (72 hours) pre-slaughter interval. Compliance with the tolerance level specified in this paragraph is to be determined by measuring only cyromazine, N-cyclopropyl-1,3,5-triazine-2,4,6-triamine, in or on the commodity.

* * * * *

(d) Indirect or inadvertent residues. Tolerances are established for indirect or inadvertent residues of the insecticide cyromazine, including its metabolites and degradates, in or on the commodities in the table in this paragraph when present therein as a result of the application of cyromazine to growing crops listed in paragraph (a)(1) of this section. Compliance with the tolerance levels specified in this paragraph is to be determined by measuring only cyromazine, N-cyclopropyl-1,3,5-triazine-2,4,6-triamine, in or on the commodity.

* * * * *

7. Section 180.415 is amended as follows:

i. Revise paragraph (a);

ii. Revise the introductory text in paragraph (c).

The revised text reads as follows:

§ 180.415 Aluminum tris (O-ethylphosphonate); tolerances for residues.

(a) General. Tolerances are established for residues of the fungicide aluminum tris (O-ethylphosphonate), including its metabolites and degradates, in or on the commodities in the table in this paragraph. Compliance with the tolerance levels specified in this paragraph is to be determined by measuring only aluminum tris (O-ethylphosphonate), in or on the commodity.

Commodity | Parts per million
Avocado | 25
Banana | 3.0
Bushberry subgroup 13B | 40
Caneberry subgroup 13A | 0.1
Cranberry | 0.5
Fruit, citrus, group 10 | 5.0
Fruit, pome, group 11 | 10
Ginseng | 0.1
Hop, dried cones | 45
Juneberry | 40
Lingonberry | 40
Nut, macadamia | 0.20
Onion, bulb | 0.5
Onion, green | 10.0
Pea, succulent | 0.3
Pineapple | 0.1
Salal | 40
Strawberry | 75
Tomato | 3
Turnip, greens | 40
Turnip, roots | 15
Vegetable, brassica, leafy, group 5 | 60
Vegetable, cucurbit, group 9 | 15
Vegetable, leafy, except brassica, group 4 | 100

* * * * *

(c) Tolerances with regional registrations. Tolerances with regional registration, as defined in § 180.1(l), are established for residues of the fungicide aluminum tris (O-ethylphosphonate), including its metabolites and degradates, in or on the commodities in the table in this paragraph. Compliance with the tolerance levels specified in this paragraph is to be determined by measuring only aluminum tris (O-ethylphosphonate), in or on the commodity.

* * * * *

8. Revise § 180.420 to read as follows:

§ 180.420 Fluridone; tolerances for residues.

(a) General. (1) Tolerances are established for residues of the herbicide fluridone, including its metabolites and degradates, in or on the commodities in the table in this paragraph. Compliance with the tolerance levels specified in this paragraph is to be determined by measuring only the sum of fluridone, 1-methyl-3-phenyl-5-(3-(trifluoromethyl)phenyl)-4(1H)-pyridinone, and its bound residues, calculated as the stoichiometric equivalent of fluridone, in or on the commodity.

Commodity | Parts per million
Crayfish | 0.5
Fish | 0.5

(2) Tolerances are established for residues of the herbicide fluridone, including its metabolites and degradates, in or on the commodities in the table in this paragraph. Compliance with the tolerance levels specified in this paragraph is to be determined by measuring only fluridone, 1-methyl-3-phenyl-5-(3-(trifluoromethyl)phenyl)-4(1H)-pyridinone, in or on the commodity.

Commodity | Parts per million
Cattle, fat | 0.05
Cattle, kidney | 0.1
Cattle, liver | 0.1
Cattle, meat | 0.05
Cattle, meat byproducts | 0.05
Egg | 0.05
Goat, fat | 0.05
Goat, kidney | 0.1
Goat, liver | 0.1
Goat, meat | 0.05
Goat, meat byproducts | 0.05
Hog, fat | 0.05
Hog, kidney | 0.1
Hog, liver | 0.1
Hog, meat | 0.05
Hog, meat byproducts | 0.05
Horse, fat | 0.05
Horse, kidney | 0.1
Horse, liver | 0.1
Horse, meat | 0.05
Horse, meat byproducts | 0.05
Milk | 0.05
Poultry, fat | 0.05
Poultry, kidney | 0.01
Poultry, liver | 0.01
Poultry, meat | 0.05
Poultry, meat byproducts | 0.05
Sheep, fat | 0.05
Sheep, kidney | 0.1
Sheep, liver | 0.1
Sheep, meat | 0.05
Sheep, meat byproducts | 0.05

(b) Section 18 emergency exemptions. [Reserved]

(c) Tolerances with regional registrations. [Reserved]

(d) Indirect or inadvertent residues. Tolerances are established for indirect or inadvertent residues of the herbicide fluridone, including its metabolites and degradates, in or on the irrigated crop commodities and crop groupings in the table in this paragraph, resulting from use of irrigation water containing residues of 0.15 parts per million following applications of fluridone on or around aquatic sites. Where tolerances are established at higher levels from other uses of fluridone on the crops in the table in this paragraph, the higher tolerance also applies to residues in or on the irrigated commodity. Compliance with the tolerance levels specified in this paragraph is to be determined by measuring only fluridone, 1-methyl-3-phenyl-5-(3-(trifluoromethyl)phenyl)-4(1H)-pyridinone, in or on the commodity.

Commodity | Parts per million
Animal feed, nongrass, group 18 | 0.15
Avocado | 0.1
Berry, group 13 | 0.1
Cotton, undelinted seed | 0.1
Cranberry | 0.1
Fruit, citrus, group 10 | 0.1
Fruit, pome, group 11 | 0.1
Fruit, stone, group 12 | 0.1
Grain, cereal, forage, fodder and straw, group 16 | 0.1
Grain, cereal, group 15 | 0.1
Grape | 0.1
Grass, forage | 0.15
Hop, dried cones | 0.1
Nut, tree, group 14 | 0.1
Okra | 0.1
Strawberry | 0.1
Vegetable, brassica, leafy, group 5 | 0.1
Vegetable, cucurbit, group 9 | 0.1
Vegetable, fruiting, group 8 | 0.1
Vegetable, leafy, except brassica, group 4 | 0.1
Vegetable, leaves of root and tuber, group 2 | 0.1
Vegetable, legume, group 6 | 0.1
Vegetable, root and tuber, group 1 | 0.1

9. In § 180.425 revise the introductory text in paragraph (a) to read as follows:

§ 180.425 Clomazone; tolerances for residues.

(a) General. Tolerances are established for residues of the herbicide clomazone, including its metabolites and degradates, in or on the commodities in the table in this paragraph. Compliance with the tolerance levels specified in this paragraph is to be determined by measuring only clomazone, 2-[(2-chlorophenyl)methyl]-4,4-dimethyl-3-isoxazolidinone, in or on the commodity.

* * * * *

10. Section 180.430 is amended as follows:

i. Revise the introductory text in paragraph (a);

ii. Revise the introductory text in paragraph (b).

The revised text reads as follows:

§ 180.430 Fenoxaprop-ethyl; tolerances for residues.

(a) General. Tolerances are established for residues of the herbicide fenoxaprop-ethyl, including its metabolites and degradates, in or on the commodities in the table in this paragraph. Compliance with the tolerance levels specified in this paragraph is to be determined by measuring only the sum of fenoxaprop-ethyl, (±)-ethyl 2-[4-[(6-chloro-2-benzoxazolyl)oxy]phenoxy]propanoate, and its metabolites, 2-[4-[(6-chloro-2-benzoxazolyl)oxy]phenoxy]propanoic acid and 6-chloro-2,3-dihydrobenzoxazol-2-one, calculated as the stoichiometric equivalent of fenoxaprop-ethyl, in or on the commodity.

* * * * *

(b) Section 18 emergency exemptions. Time-limited tolerances are established for residues of the herbicide fenoxaprop-ethyl, including its metabolites and degradates, in or on the commodities in the table in this paragraph in connection with use of fenoxaprop-ethyl under section 18 emergency exemptions granted by EPA. Compliance with the tolerance levels specified in this paragraph is to be determined by measuring only the sum of fenoxaprop-ethyl, (±)-ethyl 2-[4-[(6-chloro-2-benzoxazolyl)oxy]phenoxy]propanoate, and its metabolites, 2-[4-[(6-chloro-2-benzoxazolyl)oxy]phenoxy]propanoic acid and 6-chloro-2,3-dihydrobenzoxazol-2-one, calculated as the stoichiometric equivalent of fenoxaprop-ethyl, in or on the commodity. The tolerances expire and are revoked on the dates specified in the table in this paragraph.

* * * * *

11. Section 180.432 is amended as follows:

i. Revise the introductory text in paragraph (a);

ii. Revise the introductory text in paragraph (c).

The revised text reads as follows:

§ 180.432 Lactofen; tolerances for residues.

(a) General. Tolerances are established for residues of the herbicide lactofen, including its metabolites and degradates, in or on the commodities in the table in this paragraph. Compliance with the tolerance levels specified in this paragraph is to be determined by measuring only lactofen, 2-ethoxy-1-methyl-2-oxoethyl 5-[2-chloro-4-(trifluoromethyl)phenoxy]-2-nitrobenzoate, in or on the commodity.

* * * * *

(c) Tolerances with regional registrations. Tolerances with regional registration, as defined in § 180.1(l), are established for residues of the herbicide lactofen, including its metabolites and degradates, in or on the commodities in the table in this paragraph. Compliance with the tolerance levels specified in this paragraph is to be determined by measuring only lactofen, 2-ethoxy-1-methyl-2-oxoethyl 5-[2-chloro-4-(trifluoromethyl)phenoxy]-2-nitrobenzoate, in or on the commodity.

* * * * *

12. Section 180.446 is amended as follows:

i. Revise the introductory text in paragraph (a)(1);

ii. Revise the introductory text in paragraph (a)(2).

The revised text reads as follows:

§ 180.446 Clofentezine; tolerances for residues.

(a) * * * (1) Tolerances are established for residues of the insecticide clofentezine, including its metabolites and degradates, in or on the commodities in the table in this paragraph. Compliance with the tolerance levels specified in this paragraph is to be determined by measuring only clofentezine, 3,6-bis(2-chlorophenyl)-1,2,4,5-tetrazine, in or on the commodity.

* * * * *

(2) Tolerances are established for residues of the insecticide clofentezine, including its metabolites and degradates, in or on the commodities in the table in this paragraph. Compliance with the tolerance levels specified in this paragraph is to be determined by measuring only the sum of clofentezine, 3,6-bis(2-chlorophenyl)-1,2,4,5-tetrazine, and its metabolite, 3-(2-chloro-4-hydroxyphenyl)-6-(2-chlorophenyl)-1,2,4,5-tetrazine, calculated as the stoichiometric equivalent of clofentezine, in or on commodity.

* * * * *

13. Revise § 180.458 to read as follows:

§ 180.458 Clethodim; tolerances for residues.

(a) General. Tolerances are established for residues of the herbicide clethodim, including its metabolites and degradates, in or on the commodities in the table in this paragraph. Compliance with the tolerance levels specified in this paragraph is to be determined by measuring only the sum of clethodim, 2-[(1E)-1-[[[(2E)-3-chloro-2-propenyl]oxy]imino]propyl]-5-[2-(ethylthio)propyl]-3-hydroxy-2-cyclohexen-1-one, and its metabolites containing the 5-(2-ethylthiopropyl)cyclohexene-3-one and 5-(2-ethylthiopropyl)-5-hydroxycyclohexene-3-one moieties and their sulphoxides and sulphones, calculated as the stoichiometric equivalent of clethodim, in or on the commodity.

Commodity | Parts per million
Alfalfa, forage | 6.0
Alfalfa, hay | 10
Artichoke, globe | 1.2
Asparagus | 1.7
Bean, dry, seed | 2.5
Beet, sugar, molasses | 1.0
Beet, sugar, roots | 0.20
Beet, sugar, tops | 1.0
Brassica, head and stem, subgroup 5A | 3.0
Brassica, leafy greens, subgroup 5B | 3.0
Bushberry subgroup 13-07B | 0.20
Caneberry subgroup 13-07A | 0.30
Canola, meal | 1.0
Canola, seed | 0.50
Cattle, fat | 0.2
Cattle, meat | 0.2
Cattle, meat byproducts | 0.2
Clover, forage | 10.0
Clover, hay | 20.0
Corn, field, forage | 0.2
Corn, field, grain | 0.2
Corn, field, stover | 0.2
Cotton, meal | 2.0
Cotton, undelinted seed | 1.0
Cranberry | 0.50
Egg | 0.2
Flax, meal | 1.0
Flax, seed | 0.6
Goat, fat | 0.2
Goat, meat | 0.2
Goat, meat byproducts | 0.2
Herb subgroup 19A | 12.0
Hog, fat | 0.2
Hog, meat | 0.2
Hog, meat byproducts | 0.2
Hop, dried cones | 0.5
Horse, fat | 0.2
Horse, meat | 0.2
Horse, meat byproducts | 0.2
Leaf petioles subgroup 4B | 0.60
Leafy greens subgroup 4A | 2.0
Melon subgroup 9A | 2.0
Milk | 0.05
Mustard, seed | 0.50
Onion, bulb | 0.20
Onion, green | 2.0
Peach | 0.20
Peanut | 3.0
Peanut, hay | 3.0
Peanut, meal | 5.0
Peppermint, tops | 5.0
Potato | 0.5
Potato, granules/flakes | 2.0
Poultry, fat | 0.2
Poultry, meat | 0.2
Poultry, meat byproducts | 0.2
Radish, tops | 0.70
Safflower, meal | 10.0
Safflower, seed | 5.0
Sesame, seed | 0.35
Sheep, fat | 0.2
Sheep, meat | 0.2
Sheep, meat byproducts | 0.2
Soybean | 10.0
Soybean, soapstock | 15.0
Spearmint, tops | 5.0
Squash/cucumber subgroup 9B | 0.50
Strawberry | 3.0
Sunflower, meal | 10.0
Sunflower, seed | 5.0
Turnip, greens | 3.0
Vegetable, fruiting group 8 | 1.0
Vegetable, legume, group 6, except soybean | 3.5
Vegetable, root, except sugar beet, subgroup 1B | 1.0
Vegetable, tuberous and corm, subgroup 1C | 1.0

(b) Section 18 emergency exemptions. [Reserved]

(c) Tolerances with regional registrations. [Reserved]

(d) Indirect or inadvertent residues. [Reserved]

14. In § 180.462 revise the introductory text in paragraph (a) to read as follows:

§ 180.462 Pyridate; tolerances for residues.

(a) General. Tolerances are established for residues of the herbicide pyridate, including its metabolites and degradates, in or on the commodities in the table in this paragraph. Compliance with the tolerance levels specified in this paragraph is to be determined by measuring only the sum of pyridate, O-(6-chloro-3-phenyl-4-pyridazinyl)-S-octyl-carbonothioate, and its metabolites, 6-chloro-3-phenyl-pyridazine-4-ol and conjugates of 6-chloro-3-phenyl-pyridazine-4-ol, calculated as the stoichiometric equivalent of pyridate, in or on the commodity.

* * * * *

15. Section 180.463 is amended as follows:

i. Revise the introductory text in paragraph (a);

ii. Revise the introductory text in paragraph (b).

The revised text reads as follows:

§ 180.463 Quinclorac; tolerances for residues.

(a) General. Tolerances are established for residues of the herbicide quinclorac, including its metabolites and degradates, in or on the commodities in the table in this paragraph. Compliance with the tolerance levels specified in this paragraph is to be determined by measuring only quinclorac, 3,7-dichloro-8-quinolinecarboxylic acid, in or on the commodity.

* * * * *

(b) Section 18 Emergency exemptions. Time-limited tolerances are established for residues of the herbicide quinclorac, including its metabolites and degradates, in or on the commodity in the table in this paragraph. Compliance with the tolerance level specified in this paragraph is to be determined by measuring only quinclorac, 3,7-dichloro-8-quinolinecarboxylic acid, in or on the commodity. The tolerance expires and is revoked on the date specified in the table in this paragraph.

* * * * *

16. Revise § 180.468 to read as follows:

§ 180.468 Flumetsulam; tolerances for residues.

(a) General. Tolerances are established for residues of the herbicide flumetsulam, including its metabolites and degradates, in or on the commodities in the table in this paragraph. Compliance with the tolerance levels specified in this paragraph is to be determined by measuring only flumetsulam, N-(2,6-difluorophenyl)-5-methyl-(1,2,4)-triazolo-(1,5a)-pyrimidine-2-sulfonamide, in or on the commodity.

Commodity | Parts per million
Bean, dry, seed | 0.05
Corn, field, forage | 0.05
Corn, field, grain | 0.05
Corn, field, stover | 0.05
Soybean, seed | 0.05

(b) Section 18 emergency exemptions. [Reserved]

(c) Tolerances with regional registrations. [Reserved]

(d) Indirect or inadvertent residues. [Reserved]

17. Section 180.473 is amended as follows:

i. Revise the introductory text in paragraph (a);

ii. Revise the introductory text in paragraph (d).

The revised text reads as follows:

§ 180.473 Glufosinate ammonium; tolerances for residues.

(a) General. Tolerances are established for residues of the herbicide glufosinate ammonium, including its metabolites and degradates, in or on the commodities in the table in this paragraph. Compliance with the tolerance levels specified in this paragraph is to be determined by measuring only the sum of glufosinate ammonium, 2-amino-4-(hydroxymethylphosphinyl)butanoic acid monoammonium salt, and its metabolites, 2-(acetylamino)-4-(hydroxymethylphosphinyl)butanoic acid and 3-(hydroxymethylphosphinyl)propionic acid, calculated as the stoichiometric equivalent of 2-amino-4-(hydroxymethylphosphinyl)butanoic acid, in or on the commodity.

* * * * *

(d) Indirect or inadvertent residues. Tolerances are established for indirect or inadvertent residues of the herbicide glufosinate ammonium, including its metabolites and degradates, in or on the commodities in the table in this paragraph when present therein as a result of the application of glufosinate ammonium to crops listed in paragraph (a) of this section. Compliance with the tolerance levels specified in this paragraph is to be determined by measuring only the sum of glufosinate ammonium, 2-amino-4-(hydroxymethylphosphinyl)butanoic acid monoammonium salt, and its metabolite, 3-(hydroxymethylphosphinyl)propionic acid, calculated as the stoichiometric equivalent of 2-amino-4-(hydroxymethylphosphinyl)butanoic acid, in or on the commodity.

* * * * *

18. In § 180.477 revise the introductory text in paragraph (a) to read as follows:

§ 180.477 Flumiclorac pentyl; tolerances for residues.

(a) General. Tolerances are established for residues of the herbicide flumiclorac pentyl, including its metabolites and degradates, in or on the commodities in the table in this paragraph. Compliance with the tolerance levels specified in this paragraph is to be determined by measuring only flumiclorac pentyl, pentyl(2-chloro-4-fluoro-5-(1,3,4,5,6,7-hexahydro-1,3-dioxo-2H-isoindol-2-yl)phenoxy)acetate, in or on the commodity.

* * * * *

19. Section 180.482 is amended as follows:

i. Revise the introductory text in paragraph (a)(1);

ii. Revise the introductory text in paragraph (a)(2);

iii. Remove and reserve paragraph (b);

iv. Revise the introductory text in paragraph (d).

The revised text reads as follows:

§ 180.482 Tebufenozide; tolerances for residues.

(a) * * * (1) Tolerances are established for residues of the insecticide tebufenozide, including its metabolites and degradates, in or on the commodities in the table in this paragraph. Compliance with the tolerance levels specified in this paragraph is to be determined by measuring only tebufenozide, 3,5-dimethylbenzoic acid 1-(1,1-dimethylethyl)-2-(4-ethylbenzoyl)hydrazide, in or on the commodity.

* * * * *

(2) Tolerances are established for residues of the insecticide tebufenozide, including its metabolites and degradates, in or on the commodities in the table in this paragraph. Compliance with the tolerance levels specified in this paragraph is to be determined by measuring only the sum of tebufenozide, 3,5-dimethylbenzoic acid 1-(1,1-dimethylethyl)-2-(4-ethylbenzoyl)hydrazide, and its metabolites, 3,5-dimethylbenzoic acid 1-(1,1-dimethylethyl)-2-((4-carboxymethyl)benzoyl)hydrazide, 3-hydroxymethyl-5-methylbenzoic acid 1-(1,1-dimethylethyl)-2-(4-ethylbenzoyl)hydrazide, stearic acid conjugate of 3-hydroxymethyl-5-methylbenzoic acid 1-(1,1-dimethylethyl)-2-(4-ethylbenzoyl)hydrazide, and 3-hydroxymethyl-5-methylbenzoic acid 1-(1,1-dimethylethyl)-2-(4-(1-hydroxyethyl)benzoyl)hydrazide, calculated as the stoichiometric equivalent of tebufenozide, in or on the commodity.

* * * * *

(b) Section 18 emergency exemptions. [Reserved]

* * * * *

(d) Indirect or inadvertent residues. Tolerances are established for indirect or inadvertent residues of the insecticide tebufenozide, including its metabolites and degradates, in or on the commodities in the table in this paragraph when present therein as a result of the application of tebufenozide to growing crops listed in the table to paragraph (a)(1) of this section. Compliance with the tolerance levels specified in this paragraph is to be determined by measuring only the sum of tebufenozide, 3,5-dimethylbenzoic acid 1-(1,1-dimethylethyl)-2-(4-ethylbenzoyl)hydrazide, and its metabolite, 3,5-dimethylbenzoic acid 1-(1,1-dimethylethyl)-2-(4-(1-hydroxyethyl)benzoyl)hydrazide, calculated as the stoichiometric equivalent of tebufenozide, in or on the commodity.

* * * * *

20. Revise § 180.486 to read as follows:

§ 180.486 Chlorethoxyfos; tolerances for residues.

(a) General. Tolerances are established for residues of the insecticide chlorethoxyfos, including its metabolites and degradates, in or on the commodities in the table in this paragraph. Compliance with the tolerance levels specified in this paragraph is to be determined by measuring only chlorethoxyfos, O,O-diethyl O-(1,2,2,2-tetrachloroethyl) phosphorothioate, in or on the commodity.

Commodity | Parts per million
Corn, field, forage | 0.01
Corn, field, grain | 0.01
Corn, field, stover | 0.01
Corn, pop, grain | 0.01
Corn, pop, stover | 0.01
Corn, sweet, forage | 0.01
Corn, sweet, kernel plus cob with husks removed | 0.01
Corn, sweet, stover | 0.01

(b) Section 18 emergency exemptions. [Reserved]

(c) Tolerances with regional registrations. [Reserved]

(d) Indirect or inadvertent residues. [Reserved]

21. In § 180.541 revise paragraph (a) to read as follows:

§ 180.541 Propetamphos; tolerances for residues.

(a) General. A tolerance of 0.1 part per million is established for residues of the insecticide propetamphos, including its metabolites and degradates, in or on food or feed commodities when present therein as a result of the treatment of food- or feed-handling establishments with propetamphos. Direct application shall be limited solely to spot and/or crack and crevice treatment in food- or feed-handling establishments where food or feed and food or feed products are held, processed, prepared, served, or sold. Spray and dust concentrations shall be limited to a maximum of 1 percent active ingredient. For crack and crevice treatment, equipment capable of delivering a dust or a pin-stream of spray directly into cracks and crevices shall be used. For spot treatment, a coarse, low-pressure spray shall be used to avoid contamination of food, feed, or food-contact/feed-contact surfaces. Compliance with the tolerance level specified in this paragraph is to be determined by measuring only propetamphos, 1-methylethyl-(2E)-3-((ethylamino)methoxyphosphinothioyl)oxy)-2-butenoate, in or on the commodity.

* * * * *

22. In § 180.596 revise the introductory text in paragraph (a) to read as follows:

§ 180.596 Fosthiazate; tolerances for residues.

(a) General. A tolerance is established for residues of the insecticide fosthiazate, including its metabolites and degradates, in or on the commodity in the table in this paragraph. Compliance with the tolerance level specified in this paragraph is to be determined by measuring only the sum of fosthiazate, O-ethyl S-(1-methylpropyl)(2-oxo-3-thiazolidinyl)phosphonothioate, and its metabolite, O-ethyl S-(1-methylpropyl)(2-(methylsulfonyl)ethyl)phosphoramidothioate, calculated as the stoichiometric equivalent of fosthiazate, in or on the commodity.

* * * * *

23. Revise § 180.620 to read as follows:

§ 180.620 Etofenprox; tolerances for residues.

(a) General. A tolerance is established for residues of the insecticide etofenprox, including its metabolites and degradates, in or on the commodity in the table in this paragraph. Compliance with the tolerance level specified in this paragraph is to be determined by measuring only etofenprox, 2-(4-ethoxyphenyl)-2-methylpropyl 3-phenoxybenzyl ether, in or on the commodity.

Commodity | Parts per million
Rice, grain | 0.01

(b) Section 18 emergency exemptions. [Reserved]

(c) Tolerances with regional registrations. [Reserved]

(d) Indirect or inadvertent residues. [Reserved]

[FR Doc. 2011-9937 Filed 4-26-11; 8:45 am]

BILLING CODE 6560-50-P